FEDERAL MARITIME COMMISSION

Notice of Request for Additional Information

The Commission gives notice that it has formally requested that the parties to the below listed agreements provide additional information pursuant to 46 U.S.C. 40304(d). This action prevents the agreements from becoming effective as originally scheduled. Interested parties may submit comments, relevant information, or documents regarding the agreements to the Secretary by email at Secretary@fmc.gov, or by mail, Federal Maritime Commission, 800 North Capitol Street, Washington, DC 20573. Comments may be filed up to fifteen (15) days after publication of this notice appears in the Federal Register.

Agreement No.: 201349-003.

Title: World Shipping Council Agreement.

Parties: COSCO Shipping Lines Co., Ltd., Orient Overseas Container Line Ltd., and OOCL (Europe) Limited (acting as a single party); CMA CGM S.A., APL Co. Pte. Ltd., American President Lines, LLC and ANL Singapore Pte Ltd. (acting as a single party); Crowley Caribbean Services, LLC and Crowley Latin America Services, LLC (acting as a single party); Evergreen Marine Corporation (Taiwan) Ltd.; Hapag-Lloyd AG; HMM Company Limited; Independent Container Line, Ltd.; Kawasaki Kisen Kaisha Ltd., Maersk A/S and Hamburg Sud (acting as a single party); Matson Navigation Company, Inc.; MSC Mediterranean Shipping Company SA; Mitsui O.S.K. Lines Ltd.; Nippon Yusen Kaisha; Ocean Network Express Pte. Ltd.; Swire Shipping, Pte. Ltd.; Wallenius Wilhelmsen Ocean AS; Wan Hai Lines Ltd. and Wan Hai Lines (Singapore) Pte Ltd. (acting as a single party); Yang Ming Marine Transport Corp.; and Zim Integrated Shipping Services, Ltd.

By Order of the Federal Maritime Commission
Dated: June 29, 2023.
JoAnne O'Bryant,
Program Analyst.

[FR Doc. 2023-14134 Filed 7-3-23; 8:45 am]

BILLING CODE 6730-02-P